DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Closed to the public Wednesday, May 11, 2022 from 6:00 p.m. to 7:30 p.m. Closed to the public Thursday, May 12, 2022 from 9:15 a.m. to 1:00 p.m. Open to the public Thursday, May 12, 2022 from 1:00 p.m. to 4:20 p.m. All Eastern time.

ADDRESSES: The open and closed portions of the meeting will be in Rooms 4D880 and 4E869 in the Pentagon, Washington, DC. Due to the current guidance on combating the Coronavirus, the public portions of the meeting will be conducted by teleconference only. To participate in the open portion of the meeting, see the Meeting Accessibility section for instructions.

FOR FURTHER INFORMATION CONTACT: Ms. Jennifer Hill, Designated Federal Officer of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C., appendix), the Government in the Sunshine Act (5 U.S.C. 552b), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board meeting will begin in closed session on May 11, 2022 from 6:00 p.m. to 7:30 p.m. Eastern time with opening remarks by Ms. Jennifer Hill, the Designated Federal Officer, followed by a classified briefing from Mr. Mike Brown, Director, Defense Innovation Unit, on rapid access and adoption of commercial technologies for the DoD that strengthen the national security innovation base. The Board will reconvene in closed session on May 12, 2022 at 9:15 a.m. Eastern time with opening remarks by Ms. Jennifer Hill, the Designated Federal Officer. The Board will then receive classified remarks on the DoD budget with respect to the National Defense Strategy from the Hon. Kathleen Hicks, Deputy Secretary of Defense, followed by a classified briefing from the Hon. John Sherman, DoD Chief Information Officer on the current state of DoD IT. The Board will then receive a classified briefing from Mr. James Baker, Director, Office of Net Assessment (ONA), on ONA's current assessment of global competition and strategic challenges for DoD. The meeting will move into open session beginning at 1:00 p.m. to receive a presentation by Ms. Linnie Haynesworth, Chair, Business Transformation Advisory Subcommittee on the “Executive Analytics for Defense Business Operations” study and a presentation by General Larry Spencer, USAF (Ret), Chair, Talent Management, Culture, & Diversity Advisory Subcommittee on the `Reskilling/Upskilling Career DoD Civilians in New and Emerging Technologies' study. The Board members will deliberate and vote on the proposed findings, observations, and recommendations from both studies. The meeting will conclude with closing remarks by the Designated Federal Officer. The latest version of the agenda will be available on the Board's website at: https://dbb.defense.gov/Meetings/Meeting-May12-2022/.

Meeting Accessibility: In accordance with Section 10(d) of the FACA and 41 CFR 102-3.155, it is hereby determined that portions of the May 11-12, 2022 meeting of the Board will include classified information and other matters covered by 5 U.S.C. 552b(c)(1) and that, accordingly, the meeting will be closed to the public on May 11, 2022 from 6:00 p.m. to 7:30 p.m. and on May 12, 2022 from 9:15 a.m. to 1:00 p.m. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense. Pursuant to section 10(a)(1) of the FACA and 41 CFR 102-3.140, the portion of the meeting on May 12, 2022 from 1:00 p.m. to 4:20 p.m. is open to the public. Persons desiring to attend the public session are required to register. To attend the public session submit your name, affiliation/organization, telephone number, and email contact information to the Board at osd.pentagon.odam.mbx.defense-business-board@mail.mil. Requests to attend the public session must be received no later than 3:00 p.m. on Tuesday, May 10, 2022. Upon receipt of this information, the Board will provide further instructions for telephonically attending the meeting.

Written Comments and Statements: Pursuant to 41 CFR 102-3.105(j) and 102-3.140 and section 10(a)(3) of the FACA, the public or interested organizations may submit written comments or statements to the Board in response to the stated agenda of the meeting or in regard to the Board's mission in general. Written comments or statements should be submitted to Ms. Jennifer Hill, the Designated Federal Officer, via electronic mail (the preferred mode of submission) at the address listed in the FOR FURTHER INFORMATION CONTACT section. Each page of the comment or statement must include the author's name, title or affiliation, address, and daytime phone number. The Designated Federal Officer must receive written comments or statements being submitted in response to the agenda set forth in this notice by May 6, 2022 to be considered by the Board. The Designated Federal Officer will review all timely submitted written comments or statements with the Board Chair, and ensure the comments are provided to all members of the Board before the meeting. Written comments or statements received after this date may not be provided to the Board until its next scheduled meeting. Please note that all submitted comments and statements will be treated as public documents and will be made available for public inspection, including, but not limited to, being posted on the Board's website.

Dated: April 15, 2022.
Aaron T. Siegel,
Alternate OSD Federal Register Liaison Officer, Department of Defense.

[FR Doc. 2022-08486 Filed 4-20-22; 8:45 am]

BILLING CODE 5001-06-P